DEPARTMENT OF HOMELAND SECURITY

Office of the Secretary

Privacy Act of 1974; Systems of Records

AGENCY: Privacy Office, Department of Homeland Security.

ACTION: Notice of removal of two Privacy Act systems of records.

SUMMARY: In accordance with the Privacy Act of 1974, the Department of Homeland Security is giving notice that it proposes to remove two systems of records from its inventory of record systems because they have become obsolete.

DATES: Effective Date: April 13, 2006.

FOR FURTHER INFORMATION CONTACT: Maureen Cooney, Acting Chief Privacy Officer, Department of Homeland Security, 601 S. 12th Street, Arlington, VA 22202, by telephone (571) 227-3813 or facsimile (571) 227-4171.

SUPPLEMENTARY INFORMATION: Pursuant to the provisions of the Privacy Act of 1974, 5 U.S.C. 552a, and as part of its ongoing integration and management efforts, the Department of Homeland Security is removing two obsolete systems of records from its inventory of record systems.

The first one is currently being maintained by United States Citizenship and Immigration Services and was formerly maintained by the Immigration and Naturalization Service (INS). This legacy record system is entitled “Designated Entity Information Management System (DEIMS),” last published in the Federal Register as “JUSTICE/INS-021,” (62 FR 39256), when the INS was still a part of the United States Department of Justice. The system became part of the DHS inventory of record systems upon creation of DHS and the merger with INS.

This system was originally established in order to maintain records concerning individuals who applied for and received certification from INS to serve as designated fingerprint service providers. The record system is no longer needed, however, because the INS—and now DHS—no longer uses the services of designated fingerprint service providers. Instead, aliens applying for immigration benefits must have their fingerprints taken by DHS, by state and local law enforcement agencies, by consular offices of the Department of State, or by Department of Defense offices authorized to perform fingerprinting services. Therefore, JUSTICE/INS-021, the “Designated Entity Information Management System (DEIMS)” is obsolete and the Department of Homeland Security is removing this system from its inventory of Privacy Act systems.

For similar reasons, DHS proposes to remove another legacy system of records that is now being maintained by the Bureau of Immigration and Customs Enforcement, but which was formerly maintained by INS when it was part of the Department of Justice. This legacy record system is entitled “Job Exchange System (JOBX).” and it was last published as JUSTICE/INS-009 in the Federal Register on September 7, 2001 (66 FR 46815. JOBX was originally established in order to enable INS employees meeting specific criteria to trade like positions with other INS employees upon supervisor approval. The record system has become obsolete, however, as DHS no longer authorizes job swapping among employees. Therefore, the Department of Homeland Security is also removing JUSTICE/INS-009 from its inventory of Privacy Act systems.

Eliminating these two systems will have no adverse impacts on individuals, but will promote the overall streamlining and management of DHS Privacy Act record systems.

Dated: April 4, 2006.
Maureen Cooney,
Acting Chief Privacy Officer.

[FR Doc. E6-5350 Filed 4-12-06; 8:45 am]

BILLING CODE 4410-10-P